DEPARTMENT OF THE INTERIOR

National Park Service

[NPS-WASO-NAGPRA-17924; PPWOCRADN0-PCU00RP14.R50000]

Notice of Intent To Repatriate Cultural Items: San Bernardino County Museum, Redlands, CA

AGENCY: National Park Service, Interior.

ACTION: Notice.

SUMMARY: The San Bernardino County Museum (SBCM), in consultation with the appropriate Indian tribes or Native Hawaiian organizations, has determined that the cultural items listed in this notice meet the definition of cultural items under 25 U.S.C. 3001. Lineal descendants or representatives of any Indian tribe or Native Hawaiian organization not identified in this notice that wish to claim these cultural items should submit a written request to the SBCM. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the SBCM at the address in this notice by May 28, 2015.

ADDRESSES: Leonard X. Hernandez, Interim Director, San Bernardino County Museum, 2024 Orange Tree Lane, Redlands, CA 92374, telephone (909) 387-2220, email leonard.hernandez@lib.sbcounty.gov.

SUPPLEMENTARY INFORMATION: Notice is here given in accordance with the Native American Graves Protection and Repatriation Act (NAGPRA), 25 U.S.C. 3005, of the intent to repatriate cultural items under the control of the San Bernardino County Museum that meet the definition of cultural items under 25 U.S.C. 3001.

This notice is published as part of the National Park Service's administrative responsibilities under NAGPRA, 25 U.S.C. 3003(d)(3). The determinations in this notice are the sole responsibility of the San Bernardino County Museum. The National Park Service is not responsible for the determinations in this notice.

History and Description of the Cultural Item(s)

Between 1950 and 1955, cultural items were removed from the Temeeku site in Riverside County, CA. The cultural items were brought into the SBCM's holdings in the early 1950's. The cultural items are stored in 16 boxes and include tens of thousands of individual artifacts.

The documentation of the excavations is extensive and published in the following: McCown, B.E. Temeku A Page from the History of the Luiseño Indians. Redlands, CA: Archaeological Survey Association of Southern California. 1955; Chartkoff, J. K. and L. Kona. Site Record: Ca-Riv-50. Record on file, Eastern Information Center. 1965; Stein, M. Site Record: Ca-Riv-50. Record on file, Eastern Information Center. 1981; Bowles, L. L. Site Record: Ca-Riv-50. Record on file, Eastern Information Center. 1982; Bowden, Cheryl. Site Record: P-33-000050. Record on file, The Resource Agency Department of Parks and Recreation Primary Record, California. 2002; Carrico, Richard. Strangers in a Stolen Land: Indians in San Diego County from Prehistory to the New Deal. 2nd edition. San Diego: Sunbelt Publications. 2008; Masiel-Zamora, Myra Ruth. Analysis Of `Éxva Teméeku, A Luiseño Indian Village Site Named Temeku, Located In Temecula, California. M.A. Thesis, San Diego State University, Anthropology Department. 2013.

The cultural items were removed from a known Luiseno village site. Archeological records compiled during the excavation confirm that the site, Temeeku, is directly related to the Luiseno people. Consultation with the Pechanga Band of Luiseno Mission Indians of the Pechanga Reservation, California, Cultural Resources Department; Dr. Alexis Gray, Forensic Anthropologist; San Diego State University's Dr. Arion Mayes, Skeletal Biology, Dental Anthropology and Forensic Anthropology, has confirmed the location and cultural affiliation of this site with the Luiseno people. Through consultation, the SBCM has determined that all of the items in this collection meet the definition of cultural items under 25 U.S.C. 3001 and include unassociated funerary objects, sacred objects, and/or objects of cultural patrimony. Pechanga Band of Luiseno Mission Indians of the Pechanga Reservation, California, has made a request for repatriation of all of these cultural items.

Determinations Made by the San Bernardino County Museum

Officials of the SBCM have determined that:

• Pursuant to 25 U.S.C. 3001(3), the items described above meet the definition of cultural items and include unassociated funerary objects, sacred objects, and/or objects of cultural patrimony.

• Pursuant to 25 U.S.C. 3001(2), there is a relationship of shared group identity that can be reasonably traced between the unassociated funerary objects, sacred objects, and/or objects of cultural patrimony and the La Jolla Band of Luiseno Indians, California (previously listed as the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; and the Soboba Band of Luiseno Indians, California.

Additional Requestors and Disposition

Lineal descendants or representatives of any Indian tribe or Native Hawaiian organization not identified in this notice that wish to claim these cultural items should submit a written request with information in support of the claim to Leonard X. Hernandez, Interim Director, San Bernardino County Museum, 2024 Orange Tree Lane, Redlands, CA 92374, telephone (909) 387-2220, email leonard.hernandez@lib.sbcounty.gov, by May 28, 2015. After that date, if no additional claimants have come forward, transfer of control of the cultural items to the La Jolla Band of Luiseno Indians, California (previously listed as the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; or the Soboba Band of Luiseno Indians, California may proceed.

The San Bernardino County Museum is responsible for notifying the La Jolla Band of Luiseno Indians, California (previously listed as the La Jolla Band of Luiseno Mission Indians of the La Jolla Reservation); Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; and the Soboba Band of Luiseno Indians, California, that this notice has been published.

Dated: March 10, 2015.
Mariah Soriano,
Acting Manager, National NAGPRA Program.

[FR Doc. 2015-09910 Filed 4-27-15; 8:45 am]

BILLING CODE 4312-50-P